DEPARTMENT OF COMMERCE

Patent and Trademark Office

Submissions Regarding Correspondence and Regarding Attorney Representation (Trademarks)

ACTION: Proposed collection; comment request.

SUMMARY: The United States Patent and Trademark Office (USPTO), as part of its continuing effort to reduce paperwork and respondent burden, invites the general public and other Federal agencies to take this opportunity to comment on the revision of a currently approved collection, as required by the Paperwork Reduction Act of 1995, Public Law 104-13 (44 U.S.C. 3506(c)(2)(A)).

DATES: Written comments must be submitted on or before May 16, 2011.

ADDRESSES: You may submit comments by any of the following methods:

• E-mail: InformationCollection@uspto.gov. Include “0651-0056 Submissions” in the subject line of the message.

• Mail: Susan K. Fawcett, Records Officer, Office of the Chief Information Officer, U.S. Patent and Trademark Office, P.O. Box 1450, Alexandria, VA 22313-1450.

• Federal e-Rulemaking Portal: http://www.regulations.gov.

FOR FURTHER INFORMATION CONTACT: Requests for additional information should be directed to the attention of Catherine Cain, Attorney Advisor, Office of the Commissioner for Trademarks, United States Patent and Trademark Office, P.O. Box 1450, Alexandria, VA 22313-1450; by telephone at 571-272-8946; or by e-mail at catherine.cain@uspto.gov with “Paperwork” in the subject line.

SUPPLEMENTARY INFORMATION

I. Abstract

The United States Patent and Trademark Office (USPTO) administers the Trademark Act, 15 U.S.C. 1051 et seq., which provides for the Federal registration of trademarks, service marks, collective trademarks and service marks, collective membership marks, and certification marks. Individuals and businesses that use, or intend to use such marks in commerce may file an application to register their marks with the USPTO. Registered marks remain on the register indefinitely so long as the owner of the registration files the necessary maintenance documents.

Such individuals and businesses may also submit various communications to the USPTO regarding their pending applications or registered trademarks, including providing additional information needed to process a pending application, filing amendments to the applications, or filing the papers necessary to keep a trademark in force. In the majority of circumstances, individuals and businesses retain attorneys to handle these matters. As such, these parties may also submit communications to the USPTO regarding the appointment of attorneys of record to represent applicants in the application process or, in the case of applicants or registrants who are not domiciled in the United States, the appointment of domestic representatives on whom may be served notices or process in proceedings affecting the mark, the revocation of an attorney's or domestic representative's appointment, and requests for permission to withdraw from representation. Applicants and registrants may also submit change of owner's address forms requesting that the USPTO amend the record of an application or registration by entering a new address for the applicant or registrant.

The rules implementing the Trademark Act are set forth in 37 CFR part 2. In addition to governing the registration of trademarks, the Act and rules also govern the appointments and revocations of attorneys and domestic representatives. The trademark rules provide the specifics for filing requests for permission to withdraw as the attorney of record. The requirements for changes of the owner's address are not governed by the trademark rules, but are outlined in the USPTO's procedures. The information in this collection is available to the public.

The information in this collection can be submitted in paper format or electronically through the Trademark Electronic Application System (TEAS). The USPTO has developed a new TEAS Global Form format that permits the agency to collect information electronically when a TEAS form having dedicated data fields is not yet available. With the introduction of the TEAS Global Forms, the information in this collection can be collected in three different formats: Paper format, electronically using the original TEAS forms, or electronically using the TEAS Global Forms.

This collection currently has three TEAS forms with dedicated data fields. As part of this renewal, the USPTO proposes to add three TEAS Global Forms: For changing the domestic representative's address, replacing the attorney of record with another already-appointed attorney, and requesting the withdrawal of a domestic representative—into the collection. The paper equivalents will be added as well.

Although this collection does have electronic forms, there are no official paper forms for these items. Individuals and businesses can submit their own paper forms, following USPTO rules and guidelines to ensure that all necessary information is provided.

II. Method of Collection

Electronically if applicants submit the information using the original TEAS forms or the new TEAS Global Forms. By mail or hand delivery if applicants choose to submit the information in paper format.

III. Data

OMB Number: 0651-0056.

Form Number(s): PTO Forms 2196, 2197, and 2201. TEAS Global Forms: Change of Domestic Representative's Address, Replacement of Attorney of Record with Another Already-Appointed Attorney, and Request to Withdraw as Domestic Representative.

Type of Review: Revision of a currently approved collection.

Affected Public: Business or other for-profit organizations.

Estimated Number of Respondents: 123,010 responses per year. Of this total, the USPTO estimates that 117,151 responses will be submitted through TEAS.

Estimated Time Per Response: The USPTO estimates that it takes the public approximately 5 to 15 minutes (0.08 to 0.25 hours) to complete this information, depending on the application. This includes the time to gather the necessary information, prepare the requests, and submit them to the USPTO. The time estimates shown for the electronic forms in this collection are based on the average amount of time needed to complete and electronically file the associated form.

Estimated Total Annual Respondent Burden Hours: 10,927 hours.

Estimated Total Annual Respondent Cost Burden: $3,551,275. The USPTO expects that attorneys will complete these submissions. Using the professional hourly rate of $325 for attorneys in private firms, the USPTO estimates $3,551,275 per year for salary costs associated with respondents.

Item | Estimated time for response (in minutes) | Estimated annual responses | Estimated annual burden hours
Revocation of Attorney/Domestic Representative and/or Appointment of Attorney/Domestic Representative (Paper) | 10 | 4,000 | 680
TEAS Revocation of Attorney/Domestic Representative and/or Appointment of Attorney/Domestic Representative (PTO Form 2196) | 5 | 80,000 | 6,400
Request for Permission to Withdraw as Attorney of Record (Paper) | 15 | 225 | 56
TEAS Request for Permission to Withdraw as Attorney of Record (PTO Form 2201) | 12 | 4,500 | 900
Change of Owner's Address (Paper) | 10 | 1,600 | 272
TEAS Change of Owner's Address (PTO Form 2197) | 5 | 32,000 | 2,560
Change of Domestic Representative's Address (Paper) | 10 | 13 | 2
TEAS Change of Domestic Representative's Address (TEAS Global) | 5 | 250 | 20
Replacement of Attorney of Record with Another Already-Appointed Attorney (Paper) | 10 | 1 | 1
TEAS Replacement of Attorney of Record with Another Already-Appointed Attorney (TEAS Global) | 5 | 1 | 1
Request to Withdraw as Domestic Representative (Paper) | 10 | 20 | 3
TEAS Request to Withdraw as Domestic Representative (TEAS Global) | 5 | 400 | 32
Totals |  | 123,010 | 10,927

Estimated Total Annual Non-Hour Respondent Cost Burden: $2,526. This information collection has postage costs associated with it. It does not have any operation or maintenance costs, nor does it have filing fees.

Customers incur postage costs when submitting the information in paper format. The USPTO estimates that the majority (98%) of paper submissions are submitted via United States Postal Service first-class mail. The USPTO estimates these submissions will weigh approximately one ounce with a first-class postage rate of 44 cents. Out of 5,859 paper submissions, the USPTO estimates that 5,741 will be mailed, for a total non-hour respondent cost burden of $2,526 in postage costs.

Item | Responses (a) | Postage costs ($) (b) | Total non-hour cost burden (a × b) (c)
Revocation of Attorney/Domestic Representative and/or Appointment of Attorney/Domestic Representative | 3,920 | $0.44 | $1,725.00
Request for Permission to Withdraw As Attorney of Record | 221 | 0.44 | 97.00
Change of Owner's Address Form | 1,568 | 0.44 | 690.00
Change of Domestic Representative's Address | 12 | 0.44 | 5.00
Replacement of Attorney of Record with Another Already-Appointed Attorney | 1 | 0.44 | 1.00
Request to Withdraw as Domestic Representative | 19 | 0.44 | 8.00
Totals | 5,741 |  | 2,526.00

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Dated: March 10, 2011.
Susan K. Fawcett,
Records Officer, USPTO, Office of the Chief Information Officer.

[FR Doc. 2011-5902 Filed 3-14-11; 8:45 am]

BILLING CODE 3510-16-P